COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that were furnished by nonprofit agencies employing persons who are blind or have other severe disabilities.

DATES: Date added to and deleted from the Procurement List: August 06, 2023.

ADDRESSES: Committee for Purchase From People Who Are Blind or Severely Disabled, 3555 E St. SW, Suite 325, Washington, DC 20024.

FOR FURTHER INFORMATION CONTACT: Michael R. Jurkowski, Telephone: (703) 603-2117, Fax: (703) 785-6404, or email CMTEFedReg@AbilityOne.gov.

SUPPLEMENTARY INFORMATION:

Deletions

On 6/2/2023, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7125-01-667-1400—Cabinet, Storage, Blow-Molded, 66″, Platinum

7125-01-667-1401—Cabinet, Storage, Blow-Molded, 66″, Black

7125-01-667-1402—Cabinet, Storage, Blow-Molded, 46″, Black

7125-01-667-1403—Cabinet, Storage, Blow-Molded, 46″, Platinum

7125-01-667-1404—Cabinet, Storage, Blow-Molded, 72″, Black

7125-01-667-1407—Cabinet, Storage, Blow-Molded, 72″, Platinum

Designated Source of Supply: MidWest Enterprises for the Blind, Inc., Kalamazoo, MI

Contracting Activity: GSA/FAS FURNITURE SYSTEMS MGT DIV, PHILADELPHIA, PA

NSN(s)—Product Name(s):

8465-00-258-2432—Liner, Field Pack, Green, 50″ x 30″

8465-00-935-6857—Liner, Field Pack, Green, 21.50″ x 17.75″

8465-00-935-6858—Liner, Field Pack, Green, 39″ x 27″

Designated Source of Supply: Casco Area Workshop, Inc., Harrisonville, MO

Contracting Activity: DLA TROOP SUPPORT, PHILADELPHIA, PA

NSN(s)—Product Name(s):

1025-01-232-6822—Sponge, Chamber Swabbing

Designated Source of Supply: New Horizons Rehabilitation Services, Inc., Auburn Hills, MI

Contracting Activity: DLA LAND AND MARITIME, COLUMBUS, OH

Service(s)

Service Type: Janitorial Service

Mandatory for: U.S. Navy, NEX Food Court, Norfolk Naval Air Station, 1560 Mall Drive, Norfolk, VA

Designated Source of Supply: Sara's Mentoring Center, Inc., Virginia Beach, VA

Contracting Activity: DEPT OF THE NAVY, Navy Exchange Service Command

Michael R. Jurkowski,
Acting Director, Business Operations.

[FR Doc. 2023-14360 Filed 7-6-23; 8:45 am]

BILLING CODE 6353-01-P